ENVIRONMENTAL PROTECTION AGENCY

40 CFR Part 52

[PA-4142a; FRL-7037-7]

Approval and Promulgation of Air Quality Implementation Plans; Pennsylvania; VOC and NOX RACT Determinations for Eight Individual Sources in the Pittsburgh-Beaver Valley Area

AGENCY: Environmental Protection Agency (EPA).

ACTION: Direct final rule.

SUMMARY: EPA is taking direct final action to approve revisions to the Commonwealth of Pennsylvania's State Implementation Plan (SIP). The revisions were submitted by the Pennsylvania Department of Environmental Protection (PADEP) to establish and require reasonably available control technology (RACT) for eight major sources of volatile organic compounds (VOC) and nitrogen oxides ( NOX). These sources are located in the Pittsburgh-Beaver Valley ozone nonattainment area (the Pittsburgh area). EPA is approving these revisions to establish RACT requirements in the SIP in accordance with the Clean Air Act (CAA).

DATES: This rule is effective on October 4, 2001 without further notice, unless EPA receives adverse written comment by September 19, 2001. If EPA receives such comments, it will publish a timely withdrawal of the direct final rule in the Federal Register and inform the public that the rule will not take effect.

ADDRESSES: Written comments should be mailed to David L. Arnold, Chief, Air Quality Planning & Information Services Branch, Air Protection Division, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; the Air and Radiation Docket and Information Center, U.S. Environmental Protection Agency, 401 M Street, SW, Washington, DC 20460; and the Pennsylvania Department of Environmental Protection, Bureau of Air Quality Control, P.O. Box 8468, 400 Market Street, Harrisburg, Pennsylvania 17105.

FOR FURTHER INFORMATION CONTACT: Catherine Magliocchetti at (215) 814-2174, or Ellen Wentworth (215-814-2034), at the EPA Region III address above or by e-mail at magliocchetti.catherine@epa.gov or wentworth.ellen@epa.gov. Please note that while questions may be posed via telephone and e-mail, formal comments must be submitted, in writing, as indicated in the ADDRESSES section of this document.

SUPPLEMENTARY INFORMATION:

I. Background

Pursuant to sections 182(b)(2) and 182(f) of the Clean Air Act (CAA), the Commonwealth of Pennsylvania (the Commonwealth or Pennsylvania) is required to establish and implement RACT for all major VOC and NOX sources. The major source size is determined by its location, the classification of that area and whether it is located in the ozone transport region (OTR).

Under section 184 of the CAA, RACT as specified in sections 182(b)(2) and 182(f) applies throughout the OTR. The entire Commonwealth is located within the OTR. Therefore, RACT is applicable statewide in Pennsylvania.

State implementation plan revisions imposing reasonably available control technology (RACT) for three classes of VOC sources are required under section 182(b)(2). The categories are:

(1) all sources covered by a Control Technique Guideline (CTG) document issued between November 15, 1990 and the date of attainment;

(2) all sources covered by a CTG issued prior to November 15, 1990; and

(3) all major non-CTG sources. The regulations imposing RACT for these non-CTG major sources were to be submitted to EPA as SIP revisions by November 15, 1992 and compliance required by May of 1995.

The Pennsylvania SIP already includes approved RACT regulations for all sources and source categories covered by the CTGs. On February 4, 1994, PADEP submitted a revision to its SIP to require major sources of NOX and additional major sources of VOC emissions (not covered by a CTG) to implement RACT. The February 4, 1994 submittal was amended on May 3, 1994 to correct and clarify certain presumptive NOX RACT requirements. In the Pittsburgh area, a major source of VOC is defined as one having the potential to emit 50 tons per year (tpy) or more, and a major source of NOX is defined as one having the potential to emit 100 tpy or more. Pennsylvania's RACT regulations require sources, in the Pittsburgh area, that have the potential to emit 50 tpy or more of VOC and sources which have the potential to emit 100 tpy or more of NOX comply with RACT by May 31, 1995. The regulations contain technology-based or operational “presumptive RACT emission limitations” for certain major NOX sources. For other major NOX sources, and all major non-CTG VOC sources (not otherwise already subject to RACT under the Pennsylvania SIP), the regulations contain a “generic” RACT provision. A generic RACT regulation is one that does not, itself, specifically define RACT for a source or source categories but instead allows for case-by-case RACT determinations. The generic provisions of Pennsylvania's regulations allow for PADEP to make case-by case RACT determinations that are then to be submitted to EPA as revisions to the Pennsylvania SIP.

On March 23, 1998 EPA granted conditional limited approval to the Commonwealth's generic VOC and NOX RACT regulations (63 FR 13789). In that action, EPA stated that the conditions of its approval would be satisfied once the Commonwealth either (1) certifies that it has submitted case-by-case RACT proposals for all sources subject to the RACT requirements currently known to PADEP; or (2) demonstrate that the emissions from any remaining subject sources represent a de minimis level of emissions as defined in the March 23, 1998 rulemaking. On April 22, 1999, PADEP made the required submittal to EPA certifying that it had met the terms and conditions imposed by EPA in its March 23, 1998 conditional limited approval of its VOC and NOX RACT regulations by submitting 485 case-by-case VOC/NOX RACT determinations as SIP revisions and making the demonstration described as condition 2, above. EPA determined that Pennsylvania's April 22, 1999 submittal satisfied the conditions imposed in its conditional limited approval published on March 23, 1998. On May 3, 2001 (66 FR 22123), EPA published a rulemaking action removing the conditional status of its approval of the Commonwealth's generic VOC and NOX RACT regulations on a statewide basis. The regulation currently retains its limited approval status. Once EPA has approved the case-by-case RACT determinations submitted by PADEP to satisfy the conditional approval for subject sources located in Allegheny, Armstrong, Beaver, Butler, Fayette, Washington, and Westmoreland Counties; the limited approval of Pennsylvania's generic VOC and NOX RACT regulations shall convert to a full approval for the Pittsburgh area.

It must be noted that the Commonwealth has adopted and is implementing additional “post RACT requirements” to reduce seasonal NOX emissions in the form of a NOX cap and trade regulation, 25 Pa Code Chapters 121 and 123, based upon a model rule developed by the States in the OTR. That rule's compliance date is May 1999. That regulation was approved as SIP revision on June 6, 2000 (65 FR 35842). Pennsylvania has also adopted regulations to satisfy Phase I of the NOX SIP call and submitted those regulations to EPA for SIP approval. Pennsylvania's SIP revision to address the requirements of the NOX SIP Call Phase I consists of the adoption of Chapter 145—Interstate Pollution Transport Reduction and amendments to Chapter 123—Standards for Contaminants. On May 29, 2001 (66 FR 29064), EPA proposed approval of the Commonwealth's NOX SIP call rule SIP submittal. EPA expects to publish the final rulemaking in the Federal Register in the near future. Federal approval of a case by case RACT determination for a major source of NOX in no way relieves that source from any applicable requirements found in 25 PA Code Chapters 121, 123 and 145.

On January 6, 1995, August 1, 1995, January 10, 1996, January 21, 1997, February 2, 1999, March 3, 1999, and April 19, 2001, PADEP submitted revisions to the Pennsylvania SIP which establish and impose RACT for several major sources of VOC and/or NOX. This rulemaking pertains to eight of those sources. The RACT determinations for the other sources are, or have been the subject of separate rulemakings. The Commonwealth's submittals consist of Plan Approvals (PA) and Operating Permits (OP) issued by PADEP. These PAs and OPs impose VOC and/or NOX RACT requirements for each source. These sources are all located in the Pittsburgh area.

II. Summary of the SIP Revisions

The table below identifies the sources and the individual Plan Approvals (PAs) and Operating Permits (OPs) which are the subject of this rulemaking. A summary of the VOC and NOX RACT determinations for each source follows the table.

Pennsylvania—VOC and NOX RACT Determinations for Individual Sources
Source | County | PA# or OP# | Source type | “Major source” pollutant
AES Beaver Valley Partners, Inc.—Monaca Plant | Beaver | OP 04-000-446 | Four Cogeneration Units | NOX
Duquesne Light/Pennsylvania Power Company—Bruce Mansfield Plant | Beaver | PA 04-000-235 | NOX and VOC Emitting Sources; Low NOX Burners | NOX/VOC
West Penn Power Company—Mitchell Station | Washington | PA 63-000-016 | Coal Boilers; Low-NOX Burners | NOX/VOC
Apollo Gas Company—Shoemaker Station | Armstrong | OP 03-000-183 | Natural Gas Compressors | NOX/VOC
Carnegie Natural Gas Company—Fisher Station (formerly Apollo Gas Company) | Armstrong | OP 03-000-182 | Natural Gas Compressors | NOX/VOC
The Peoples Natural Gas Company—Girty Station | Armstrong | PA 03-000-076 | Natural Gas Reciprocating Engines | NOX/VOC
The Peoples Natural Gas Company—Valley Station | Armstrong | PA 03-000-125 | Natural Gas Reciprocating Engines | NOX/VOC
Texas Eastern Transmission Corporation—Delmont Station | Westmoreland | OP 65-000-839 | Internal Combustion Engines | NOX/VOC

A. AES Beaver Valley Partners, Inc.—Monaca Plant

AES Beaver Valley Partners, Inc.'s Monaca Plant is a cogeneration plant located in Potter Township, Pennsylvania. The Monaca plant is a major NOX emitting facility. The PADEP issued OP 04-000-446 to impose RACT for this facility for the installation of low-NOX burners and combustion optimization. The Commonwealth has imposed NOX emission limits on AES Beaver Valley Partners' Monaca plant that shall not exceed an excess of .7 lbs/MMBtu from the main stack based on a 30-day rolling average. A yearly NOX emission limit for this facility is established as 5933 tpy. The annual limit must be met on a rolling monthly basis over every consecutive 12 month period. This facility is subject to record keeping requirements of 25 PA Code section 129.95, and compliance shall be established based on emission data obtained from a certified Continuous Emissions Monitoring System (CEM) installed, maintained, and operated in accordance with 25 Pa. Code Chapters 123 and 139. AES Beaver Valley Partners' Monaca plant is also subject to additional post-RACT requirements to reduce NOX.

B. Pennsylvania Power Company—Bruce Mansfield Plant

Pennsylvania Power Company's (Duquesne Light) Bruce Mansfield Plant is a power plant located in Shippingport Borough, Pennsylvania. It is a major VOC and NOX emitting facility. The PADEP issued PA 04-000-235 to impose RACT at the source for the installation of low-NOX burners with separate over-fire air on Units 1, 2, and 3, and to limit the annual capacity factors on auxiliary Boilers 1, 2, and 3. The NOX emission limit of 0.5 lbs/MMBtu, based on a 30-day rolling average, applies to each of the units. The tpy limit is based upon a 95 percent annual capacity factor limitation. Reductions in the allowable emission rates below the levels established by this permit shall not be available as Emission Reduction Credits (ERCs) pursuant to 25 Pa. Code section 127.206 unless the reductions are achieved through real reductions of actual or allowable emissions, whichever is lower, through the installation of controls beyond those required by RACT, or any other subsequent regulatory requirement. Auxiliary Boilers 1, 2, and 3 shall operate in accordance with the presumptive RACT limitations identified in 25 Pa. Code section 129.93(c)(5), which identifies RACT as installation, maintenance and operation of the source in accordance with the manufacturer's specifications. The source is required to keep data that clearly demonstrates that the auxiliary boilers' annual capacity factors are less than 5 percent, respectively. VOC RACT for Units 1, 2, and 3 at this plant shall be operational in accordance with the manufacturer's recommendations. Duquesne Light/Pennsylvania Power Company's Bruce Mansfield plant is required to perform stack testing to determine emission rates from Units 1, 2, and 3, to be conducted while the source is operating at the maximum rated capacity as stated in the source's application. Compliance shall be established based on emission data obtained from a certified CEM installed, maintained, and operated in accordance with 25 Pa. Code Chapter 139, and the PADEP's Source Testing Manual. The source is required to maintain records in accordance with the record keeping requirements of 25 Pa. Code section 129.95. Duquesne Light/Pennsylvania Power Company's Bruce Mansfield plant is also subject to additional post-RACT requirements to reduce NOX found at 25 PA Code Chapters 121, 123 and 145.

C. West Penn Power Company—Mitchell Station

West Penn Power Company's Mitchell Station is a power plant located in Union Township, Pennsylvania. Mitchell Station is a major VOC and NOX emitting facility. The PADEP issued PA 63-000-016 to impose RACT for the installation of low-NOX burners with separate over-fire air on Boiler No. 33. The NOX emission limit of 0.45 Lbs/MMBtu applies to Boiler No. 33, with a 30-day rolling average. NOX emissions from Boiler No. 33 shall not exceed 4849 tpy. The NOX emission limit of 0.2 Lbs/MMBtu, based on a 30-day rolling average, applies to Boilers 1, 2, and 3. The annual NOX emission limit for Boilers 1, 2, and 3 shall not exceed 575 tpy, each. These units shall burn only No. 2 fuel oil, or natural gas, unless otherwise approved by the PADEP. Compliance with the above limits shall be established based upon emission data obtained from a certified CEM installed, maintained, and operated in accordance with 25 Pa. Code Chapters 123 and 139, and all stack testing shall be performed in accordance with 25 Pa. Code Chapter 139, and the PADEP's Source Testing Manual. Annual limits must be met on a rolling monthly basis over every consecutive 12 month period. Reductions in the allowable emission rates below the levels established by this permit shall not be available as ERCs pursuant to 25 Pa. Code section 127.206 unless the reductions are achieved through real reductions of actual or allowable emissions, whichever is lower, through the installation of controls beyond those required by RACT or any other subsequent regulatory requirement. West Penn Power Company's Mitchell Station is also subject to additional post-RACT requirements to reduce NOX found at 25 PA Code Chapters 121, 123 and 145.

D. Apollo Gas Company—Shoemaker Station

Apollo Gas Company's Shoemaker Station is a natural gas compressor station located in Bethel Township, Pennsylvania. Shoemaker Station is a major VOC and NOX emitting facility. The PADEP issued OP 03-000-183 to impose RACT for the OEM (lean combustion retrofit modifications) on the Cooper GMVH-6 and the Cooper GMVH-6c engines at the facility. Apollo Gas Company's Shoemaker Station shall perform stack testing by a qualified testing firm on the Cooper GMVH-6 and the GMVH-6c engines. This testing will be performed every five years on the equipment to determine the emission rates of NOX and VOC. Testing shall be conducted while the engines are operating at full load and full speed during the ozone season (April to October). Apollo Gas Company's Shoemaker Station shall quantify emissions at each engine semi-annually using a portable analyzer. The source shall submit a complete operating procedure for the portable analyzer, including calibration, QA/QC, and emissions calculations methods. Results from the stack tests shall be retained on site and be made available to PADEP upon request. Stack testing shall be performed in accordance with 25 PA Code Chapter 139 and the PADEP's Source Testing Manual. Two copies of the pre-test protocol shall be submitted to the PADEP for review at least 60 days prior to the performance of the test. The PADEP shall be notified at least two weeks in advance of the test, so that an observer may be present. Two copies of the stack test shall be supplied to the PADEP for review within 60 days of the testing. The source shall maintain records for at least two years, in accordance with the minimum record keeping requirements of 25 PA Code section 129.95. The combined allowable emission rates of the two natural gas fueled engines at the Shoemaker Station are as follows: For the Cooper GMVH-6, the NOX limits are 8.4 lbs/hr, and 37 tpy. The VOC limits for this unit are 3.2 lbs/hr, and 14 tpy. For the Cooper GMVH-6c, the NOX limits are 7.0 lbs/hr, and 31 tpy. The VOC limits for this unit are 4.2 lbs/hr, and 18.5 tpy. Reductions in the allowable emission rates below the levels established by this permit shall not be available as ERCs pursuant to 25 PA. Code section 127.206 unless the reductions are achieved through real reductions of actual or allowable emissions, whichever is lower, through the installation of controls beyond those required by RACT or any other subsequent regulatory requirement. Annual limits must be met on a rolling monthly basis over every consecutive 12-month period.

E. Carnegie Natural Gas Company—Fisher Station

Carnegie Natural Gas Company's Fisher Station, formerly the Apollo Gas Company's Fisher Station, is a natural gas compressor station located in Redbank Township, Pennsylvania. Carnegie Natural Gas Company's Fisher Station is a major VOC and NOX emitting facility. The PADEP issued OP 03-000-182 to impose RACT at this source for the operation of OEM lean combustion retrofit modifications on an Ajax 600 DPC engine, along with a Cooper GMVH-6 (1,350 BHP) engine at the Fisher Station. The source shall perform stack testing by a qualified testing firm on the Ajax 600 DPC engine. This testing will be performed every five years on the equipment to determine the emission rates of NOX and VOC. Testing shall be conducted while the engines are operating at full load and full speed during the ozone season (April to October). Carnegie Natural Gas Company's Fisher Station is required to perform stack testing in accordance with 25 PA Code Chapter 139 and the PADEP's Source Testing Manual. Two copies of the pre-test protocol shall be submitted to the PADEP for review at least 60 days prior to the performance of the test. The PADEP shall be notified at least two weeks in advance of the test, so that an observer may be present. Two copies of the stack test shall be supplied to the PADEP for review within 30 days of the testing. In addition, Carnegie Natural Gas shall quantify emissions semi-annually from the Ajax 600 DPC using portable analyzers. The source is required to submit a complete operating procedure for the portable analyzer, including calibration, QA/AC, and emissions calculation methods. Results from these tests shall be retained on-site, and be made available to the PADEP upon request. The source shall maintain records for at least two years, in accordance with the minimum record keeping requirements of 25 PA Code section 129.95. The combined allowable emission rates of the two natural gas fueled engines at the Fisher Station are as follows: For the Ajax 600 DPC engine, the NOX limit is 6.5 g/bhp/hr at full load, full speed conditions; 9.0 lbs/hr at other operating conditions. On a rolling monthly basis in any consecutive 12 month period, NOX emissions may not exceed 40 tons, and VOC limits may not exceed 6 tons. For the Cooper GMVH-6 engine (1,350 HP), Fisher Station is required to operate this engine in accordance with the presumptive RACT limitations identified in 25 PA Code 129.93(c)(5), which identifies RACT as the installation, maintenance, and operation of the source in accordance with manufacturer's specifications. The units shall also be operated and maintained in accordance with good air pollution control practices. Fisher Station shall keep data that clearly demonstrates that the stand-by engine's annual capacity factors are less than five percent, or that the operating hours are less than 500 hours per year (hr/yr), on a consecutive 12 month basis. Reductions in the allowable emission rates below the levels established by this permit shall not be available as ERCs pursuant to 25 Pa. Code section 127.206 unless the reductions are achieved through real reductions of actual or allowable emissions, whichever is lower, through the installation of controls beyond those required by RACT or any other subsequent regulatory requirement.

F. The Peoples Natural Gas Company—Girty Station

The Peoples Natural Gas Company's Girty Station is a natural gas compressor station located in South Bend Township, Pennsylvania. The Peoples Natural Gas Company's Girty Station facility is a major VOC and NOX emitting facility. The PADEP issued PA 03-000-076 to impose RACT for the installation of Pre-stratified controls on Units 1,2, and 4 at the Girty Compressor Station. The emission limits of the units at the Girty Station are as follows:

Unit | Model No. | NOX limit (lbs/hr) | NOX limit (tpy) | NMVOC limit (lbs/hr) | NMVOC limit (tpy)
Unit #1, I-R | 62-KVG | 7.9 | 35 | 2.0 | 8.7
Unit #2, I-R | 62-KVG | 7.9 | 35 | 2.0 | 8.7
Unit #3, C-B | GMV-4 | 15.4 | 67.5 | 0.9 | 3.8
Unit #4, I-R | 103-KVG | 13.2 | 57.8 | 3.3 | 14.5

The Peoples Natural Gas Company's Girty Station is required to perform stack testing to determine the emission rate of NOX as NO22, and non-methane volatile organic compound (NMVOC). A pre-test protocol shall be submitted to the PADEP for review at least 30 days prior to the performance of the test. Stack testing shall be performed in accordance with 25 PA Code Chapter 139 and the PADEP's Source Testing Manual. The PADEP shall be notified at least two weeks in advance of the test, so that an observer may be present. Two copies of the stack test shall be supplied to the PADEP for review within 60 days of the testing. The Waukesha-Climax stand-by generator at the Girty Station shall not operate in excess of five percent of the annual capacity factor for that engine. All annual limits must be met on a rolling monthly basis over every consecutive 12 month period.

G. The Peoples Natural Gas Company—Valley Station

The Peoples Natural Gas Company's Valley Station is a natural gas compressor station located in Cowanshannock Township, Pennsylvania. The Peoples Natural Gas Company's Valley Station is a major VOC and NOX emitting facility. The PADEP issued PA 03-000-125 to impose RACT for the operation of Pre-stratified Charge and Original Equipment Manufacturer's type lean combustion controls on Units 1, 3, and 4 at the Valley Compressor Station. The emission limits of the units at the Valley Station are as follows, where non-methane hydrocarbon limits are expressed as NMHC:

Unit | Model No. | NOX limit (lbs/hr) | NOX limit (tpy) | NMHC limit (lbs/hr) | NMHC limit (tpy)
Unit #1, I-R | 62-KVG | 8.7 | 38.2 | 2.2 | 9.7
Unit #2, I-R | 62-KVG | 15.9 | 4.0 | 0.8 | 0.5
Unit #3, I-R | 48-KVS | 17.4 | 76.2 | 4.4 | 19.3
Unit #4, C-B | GMV-6 | 7.9 | 34.7 | 2.0 | 8.8
Unit #5, I-R | GMV-4 | 13.9 | 60.7 | 0.9 | 4.0

The Peoples Natural Gas Company's Valley Station is required to perform stack testing to determine the emission rate of NOX as NO2, and NMHC on units 1 through 5. A pre-test protocol shall be submitted to the PADEP for review at least 30 days prior to the performance of the test. Stack testing shall be performed in accordance with 25 PA Code Chapter 139 and the PADEP's Source Testing Manual. The PADEP shall be notified at least two weeks in advance of the test, so that an observer may be present. Two copies of the stack test shall be supplied to the PADEP for review within 60 days of the testing. Unit 2 at the Valley Station shall not operate in excess of five percent of the annual capacity factor for that engine. All annual limits must be met on a rolling monthly basis over every consecutive 12 month period.

H. Texas Eastern Transmission Corporation—Delmont Station

Texas Eastern Transmission Corporation's Delmont Station is a natural gas compressor station located in Salem Township, Pennsylvania. Texas Eastern Transmission Corporation's Delmont Station is a major VOC and NOX emitting facility. The PADEP issued OP 65-000-839 to impose RACT for the installation of screw-in precombustion chambers on the four (4) Ingersoll-Rand (IR) KVS 412 engines, non-selective catalytic reduction (NSCR) on the six (6) IR KVG 410 engines, and the implementation of presumptive RACT on one (1) Leroi L3460 engine, one (1) Caterpillar AR emergency generator, and five (5) heaters at the Delmont Station. Texas Eastern's Delmont Station shall not operate the Leroi L 3460 auxiliary generator, the Caterpillar AR emergency generator, or the Caterpillar 3412 emergency generator more than 500 hours annually per engine. The emission rates of the GS MS 5001 turbine shall be limited as follows: 230 ppmvd of NOX and annual emissions of 440 tpy of NOX (at 15 percent O2); and 25 ppmvd of NMVOC, and annual emissions of 1 tpy of NMVOC. The emission rates of the Pratt Whitney CG3 turbine shall be limited as follows: 160 ppmvd of NOX and annual emission of 160 tpy of NOX (at 15 percent O2); and 50 ppmvd of NMVOC and annual emissions of 1 tpy of MVOC. The emission rates of each Ingersoll Rand KVG 410 engine shall be limited as follows: NOX limits of 5 lbs/ hr, and 22 tpy; NMVOC limits of 0.5 lbs/hr, and 1.3 tpy. The emission rates of each Ingersoll Rand KVG 412 engine shall be limited as follows: NOX limits of 18 lbs/ hr, and 78 tpy; NMVOC limits of 3 lbs/hr, and 12 tpy. Texas Eastern shall use only low ask lubricating oil (0.5 percent or less) in the IR KVG-410 engines. The catalytic convertor of the IR KVG-410 engines shall be equipped with a high temperature alarm and/or shutdown set at 1,350 degrees Fahrenheit or less. The catalysts of these engines shall be physically inspected annually for damage and fouling. A log shall be kept detailing all actions taken to maintain catalyst performance. This file shall be maintained for at least two years and made available to PADEP upon request. Texas Eastern must continuously monitor and record O2 levels prior to the catalyst on each IR KVG-410 engine. The O2 levels shall be maintained below 0.5 percent on each engine. Texas Eastern's Delmont Station is required to perform a minimum of one (1) stack test in accordance with 25 PA Code Chapter 139 and PADEP's Source Testing Manual on all sources every five years to verify emission rates for NOX (as NO2) and NMVOC. Testing shall be conducted while engines are operating at full load, full speed, and during the ozone season (April to October). All sources operating 750 hours or more during the preceding ozone season shall be stack tested semi-annually to verify the emission rates through either an EPA method stack test or through the use of portable analyzers. All sources operating less than 750 hours during the preceding ozone season shall be stack tested annually to verify the emission rates through either an EPA method stack test or through the use of portable analyzers. For those tests utilizing portable analyzers, the source shall submit a complete operating procedure, including calibration, QA/QC, and emissions calculation methods to the PADEP at least 60 days prior to testing. The accuracy of the portable analyzer readings shall be verified by operation and recording of readings during EPA method stack testing. Results from stack test using portable analyzers shall be retained by the company at the test location and provided annually with the emission statements and at other times as requested by the PADEP. Texas Eastern shall submit a pretest protocol for review at least 60 days prior to performance of the stack tests. The PADEP shall be notified at least two weeks in advance of the test, so that an observer may be present. Two copies of the stack test shall be supplied to the PADEP for review within 60 days of the testing. Reductions in the allowable emission rates below the levels established by this permit shall not be available as ERCs pursuant to 25 Pa. Code section 127.206 unless the reductions are achieved through real reductions of actual or allowable emissions, whichever is lower, through the installation of controls beyond those required by RACT or any other subsequent regulatory requirement. Annual limits must be met on a rolling monthly basis over every consecutive 12 month period. The source shall maintain records in accordance with the record keeping requirements of 25 PA Code section 129.95. At a minimum, the following records shall be kept: operating hours, daily fuel consumption, operating pressures, and operating temperatures. These records shall be maintained for not less than two years and shall be made available to PADEP upon request.

III. EPA's Evaluation

EPA is approving these RACT SIP submittals because PADEP established and imposed these RACT requirements in accordance with the criteria set forth in its SIP-approved RACT regulations applicable to these sources. The Commonwealth has also imposed record-keeping, monitoring, and testing requirements on these sufficient to determine compliance with the applicable RACT determinations.

IV. Final Action

EPA is approving the revisions to the Pennsylvania SIP submitted by PADEP to establish and require VOC and NOX RACT for eight major sources located in the Pittsburgh area. EPA is publishing this rule without prior proposal because the Agency views this as a noncontroversial amendment and anticipates no adverse comment. However, in the “Proposed Rules” section of today's Federal Register, EPA is publishing a separate document that will serve as the proposal to approve the SIP revision if adverse comments are filed. This rule will be effective on October 4, 2001 without further notice unless EPA receives adverse comment by September 19, 2001. If EPA receives adverse comment, EPA will publish a timely withdrawal in the Federal Register informing the public that the rule will not take effect. EPA will address all public comments in a subsequent final rule based on the proposed rule. EPA will not institute a second comment period on this action. Any parties interested in commenting must do so at this time. Please note that if adverse comment is received for a specific source or subset of sources covered by an amendment, section or paragraph of this rule, only that amendment, section, or paragraph for that source or subset of sources will be withdrawn.

V. Administrative Requirements

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use.” See 66 FR 28355, May 22, 2001. This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a state rule implementing a Federal standard, and does not alter the relationship or the distribution of power and responsibilities established in the Clean Air Act. This rule also is not subject to Executive Order 13045 (62 FR 19885, April 23, 1997), because it is not economically significant. In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804 exempts from section 801 the following types of rules: (1) rules of particular applicability; (2) rules relating to agency management or personnel; and (3) rules of agency organization, procedure, or practice that do not substantially affect the rights or obligations of non-agency parties. 5 U.S.C. 804(3). EPA is not required to submit a rule report regarding today's action under section 801 because this is a rule of particular applicability establishing source-specific requirements for eight named sources.

C. Petitions for Judicial Review

Under section 307(b)(1) of the Clean Air Act, petitions for judicial review of this action must be filed in the United States Court of Appeals for the appropriate circuit by October 19, 2001. Filing a petition for reconsideration by the Administrator of this final rule does not affect the finality of this rule for the purposes of judicial review nor does it extend the time within which a petition for judicial review may be filed, and shall not postpone the effectiveness of such rule or action. This action approving the Commonwealth's source-specific RACT requirements to control VOC and NOX from eight individual sources in the Pittsburgh Beaver Valley area may not be challenged later in proceedings to enforce its requirements. (See section 307(b)(2).)

List of Subjects in 40 CFR Part 52

Environmental protection, Air pollution control, Hydrocarbons, Incorporation by reference, Nitrogen Oxides, Ozone, Reporting and recordkeeping requirements.

Dated: August 10, 2001.
Judith Katz,
Acting Regional Administrator, Region III.

40 CFR part 52 is amended as follows:

PART 52—[AMENDED]

1. The authority citation for Part 52 continues to read as follows:

Authority: 42 U.S.C. 7401 et seq.

Subpart NN—Pennsylvania

2. Section 52.2020 is amended by adding paragraph (c)(176) to read as follows:

§ 52.2020 Identification of plan.

* * * * *

(c) * * *

(176) Revisions to the Pennsylvania Regulations, Chapter 129 pertaining to VOC and NOX RACT, for eight sources located in the Pittsburgh-Beaver Valley area submitted by the Pennsylvania Department of Environmental Protection on January 6, 1995, August 1, 1995, January 10, 1996, January 21, 1997, February 2, 1999, March 3, 1999, and April 19, 2001.

(i) Incorporation by reference.

(A) Letters submitted by the Pennsylvania Department of Environmental Protection transmitting source-specific VOC and/or NOX RACT determinations on the following dates: January 6, 1995, August 1, 1995, January 10, 1996, January 21, 1997, February 2, 1999, March 3, 1999, and April 19, 2001.

(B) The following companies' Plan approvals (PA) or Operating permits (OP):

(1) Pennsylvania Power Company, Bruce Mansfield Plant, PA 04-000-235, effective December 29, 1994 except for the expiration date.

(2) West Penn Power Company, Mitchell Station, PA 63-000-016, effective June 12, 1995, except for the expiration date.

(3) Carnegie Natural Gas Company, Fisher Station, OP 03-000-182, effective December 2, 1998, except for the Permit Term.

(4) Apollo Gas Company, Shoemaker Station, OP 03-000-183, effective September 12, 1996, except for the Permit Term.

(5) Texas Eastern Transmission Corporation, Delmont Station, OP 65-000-839, effective January 9, 1997, except for the Permit Term.

(6) The Peoples Natural Gas Company, Valley Station, PA 03-000-125, effective October 31, 1994 except for the expiration date and the time limits in condition 6.

(7) The Peoples Natural Gas Company, Girty Station, PA 03-000-076, effective as extended on October 27, 1995, except for the expiration date and time limit in condition 6.

(8) AES Beaver Valley Partners, Monaca Plant, OP 04-000-446, effective as revised on March 23, 2001, except for the Permit Term.

(ii) Additional Materials—Other materials submitted by the Commonwealth of Pennsylvania in support of and pertaining to the RACT determinations for the sources listed in paragraph (c)(176)(i) (B) of this section.

[FR Doc. 01-20879 Filed 8-17-01; 8:45 am]

BILLING CODE 6560-50-P